COMMISSION ON CIVIL RIGHTS

Notice of Public Meetings of the Connecticut Advisory Committee

AGENCY: Commission on Civil Rights.

ACTION: Announcement of meetings.

SUMMARY: Notice is hereby given, pursuant to the provisions of the rules and regulations of the U.S. Commission on Civil Rights (Commission), and the Federal Advisory Committee Act (FACA), that the Connecticut Advisory Committee to the U.S. Commission on Civil Commission will hold meetings via conference call on Thursday, December 17, 2020 at 2:00 p.m. ET and Monday, December 21, 2020 at 1:00 p.m. ET. The purpose of the meetings is to consider next steps in the Committee's work on COVID-19 in nursing homes, including hearing from advocates and researchers on the topic.

DATES: Thursday, December 17, 2020, at 2:00 p.m. ET and Monday, December 21, 2020, at 1:00 p.m. ET.

ADDRESSES: Public Call-In Information: Dial 1-866-248-8441; conference ID: 3651719.

FOR FURTHER INFORMATION CONTACT: >Barbara Delaviez at ero@usccr.gov or by phone at 202-539-8246.

SUPPLEMENTARY INFORMATION: Interested members of the public may listen to the discussion by calling the following toll-free conference call-in number: 1-866-248-8441 and conference ID: 3651719. Please be advised that before placing them into the conference call, the conference call operator will ask callers to provide their names, their organizational affiliations (if any), and email addresses (so that callers may be notified of future meetings). You may also remain anonymous. Callers can expect to incur charges for calls they initiate over wireless lines, and the Commission will not refund any incurred charges. Callers will incur no charge for calls they initiate over land-line connections to the toll-free conference call-in number.

Individuals who are deaf, deafblind and hard of hearing may also follow the proceedings by first calling the Federal Relay Service at 1-800-877-8339 and providing the Federal Relay Service operator with the conference call-in numbers: 1-866-248-8441 and conference ID: 3651719.

Members of the public are invited to make statements during the open comment period of the meeting or submit written comments. The comments must be received in the regional office approximately 30 days after each scheduled meeting. Written comments may be emailed to Barbara Delaviez at ero@usccr.gov. Persons who desire additional information may contact Regional Programs Unit at (312) 353-8311.

Members of the public are entitled to make comments during the open period at the end of the meeting. Members of the public may also submit written comments; the comments must be received in the Regional Programs Unit within 30 days following the respective meeting. Written comments may be emailed to Barbara Delaviez at ero@usccr.gov. Persons who desire additional information may contact the Regional Programs Unit at (202) 809-9618. Records and documents discussed during the meeting will be available for public viewing as they become available at the www.facadatabase.gov. Persons interested in the work of this advisory committee are advised to go to the Commission's website, www.usccr.gov, or to contact the Regional Programs Unit at the above phone number or email address.

Agenda

Thursday, December 17, 2020 at 2:00 p.m. ET and Monday, December 21 at 1:00 p.m. ET, 2020 at 1:00 p.m. (ET)

• Roll Call

• Project Next Steps and/or Briefing: COVID-19 in Nursing Homes in Connecticut

• Open Comment

• Next Steps

• Other Business

• Adjournment

Dated: December 16, 2020.
David Mussatt,
Supervisory Chief, Regional Programs Unit.

[FR Doc. 2020-28132 Filed 12-18-20; 8:45 am]

BILLING CODE P